DEPARTMENT OF ENERGY

Federal Energy Regulatory Commission

[Docket No. RP02-426-001]

Dominion Transmission Inc.; Notice of Compliance Filing

October 16, 2002.

Take notice that on October 10, 2002, Dominion Transmission Inc. (DTI) submitted for filing as part of its FERC Gas Tariff, Third Revised Volume No. 1, the following revised tariff sheets, with an effective date of October 1, 2002:

Second Revised Sheet No. 1052

Second Revised Sheet No. 1053

First Revised Sheet No. 1056

Fourth Revised Sheet No. 1057

Fourth Revised Sheet No. 1173

DTI states that the revised sheets are submitted to comply with the Commission's Order No. 587-O and the Commission's September 25, 2002 order in Docket No. RP02-426-000 (September 25 Order). DTI's compliance filing incorporates the changes required by the September 25 Order.

DTI's states that a copy of the filing has been served upon all of DTI's customers and interested state commissions.

Any person desiring to protest said filing should file a protest with the Federal Energy Regulatory Commission, 888 First Street, NE, Washington, DC 20426, in accordance with section 385.211 of the Commission's rules and regulations.

All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26948 Filed 10-22-02; 8:45 am]

BILLING CODE 6717-01-P